DEPARTMENT OF COMMERCE

National Oceanic and Atmospheric Administration

RIN 0648-XF354

Endangered and Threatened Species; Take of Anadromous Fish

AGENCY: National Marine Fisheries Service (NMFS), National Oceanic and Atmospheric Administration (NOAA), Commerce.

ACTION: Notice of final determination and discussion of underlying biological and environmental analyses.

SUMMARY: Notice is hereby given that NMFS has evaluated one Tribal Resource Management Plan (TRMP or Tribal Plan) submitted by the Confederated Tribes of the Colville Reservation (CTCR) to NMFS pursuant to the limitation on take prohibitions for actions conducted under Tribal Plans promulgated under the Endangered Species Act (ESA). The Tribal Plan specifies artificial propagation, harvest, predator control, kelt reconditioning, and monitoring and evaluation activities in the Okanogan River basin and portions of the Upper Columbia River (UCR). This document serves to notify the public that NMFS, by delegated authority from the Secretary of Commerce, has determined pursuant to the Tribal ESA section 4(d) Rule for salmon and steelhead that implementing and enforcing the plans will not appreciably reduce the likelihood of survival and recovery of ESA-listed UCR Spring Chinook salmon and steelhead.

DATES: The final determination on the take limit was made on February 28, 2017.

ADDRESSES: Written responses to the determination should be addressed to the NMFS Sustainable Fisheries Division, 1201 NE. Lloyd Blvd., #1100, Portland, OR 97232.

FOR FURTHER INFORMATION CONTACT: Natasha Meyers-Cherry at (503) 231-2178 or by email at natasha.meyers-cherry@noaa.gov.

SUPPLEMENTARY INFORMATION:

ESA-Listed Species Covered in This Notice

Chinook salmon (Oncorhynchus tshawytscha): Endangered (but functionally extirpated in the analysis area), naturally produced UCR spring-run.

Steelhead (O. mykiss): Threatened, naturally produced and artificially propagated UCR.

Background

The CTCR have submitted to NMFS a Tribal Plan for hatchery, fishery harvest, predator control, kelt reconditioning, and monitoring and evaluation activities in the Okanogan River basin, in the UCR basin in Washington State. The Tribal Plan was submitted February 4, 2014, pursuant to the Tribal ESA section 4(d) Rule.

The Tribal Plan describes actions involving fisheries, hatchery, predator control, and kelt reconditioning activities (with associated monitoring and evaluation) in the Okanogan Basin and Columbia River mainstem. The Tribal Plan is intended to contribute to the recovery of the steelhead population in the Okanogan Basin, and to responsibly enhance fishing opportunity on non-listed Chinook salmon.

As required, NMFS took comments on how the plans address the criteria in 50 CFR 223.203(b)(5) prior to making that determination.

Discussion of the Biological Analysis Underlying the Determination

The hatchery, fishery, predator removal, kelt reconditioning, and monitoring and evaluation activities are intended to conserve native, ESA-listed UCR spring Chinook salmon and steelhead and to provide harvest in-tribal and non-tribal fisheries in the basin.

The hatchery programs are designed to preserve, and bolster the natural spawning abundance of, the native UCR populations of the species.

The programs described in the Tribal Plan would be operated in such a way as to minimize potential risks to ESA-listed natural-origin UCR spring Chinook salmon, and steelhead populations. These potential risks include interactions between hatchery and natural fish that may lead to adverse genetic and ecological effects.

As part of the proposed hatchery programs, monitoring and evaluation would be implemented to assess their performance in meeting population conservation or harvest augmentation objectives, and their effects on ESA-listed natural-origin spring Chinook salmon and steelhead. Information gained through monitoring and evaluation will be used to assess whether the impacts of the programs on listed fish are as expected. Review of monitoring and evaluation results by NMFS and the co-managers will occur annually to evaluate whether assumptions regarding Tribal Plan effects and analysis remain valid, and whether the objectives of the Tribal Plan are being accomplished. The Tribal Plan includes provisions for annual reports that will assess compliance with performance standards established through the plan. Reporting and inclusion of new information derived from research, monitoring, and evaluation activities described in the plan provides assurance that performance standards will be achieved in future seasons. NMFS' evaluation is available on the West Coast Region Web site at http://www.westcoast.fisheries.noaa.gov.

Summary of Comments Received in the Response to the Proposed Evaluation and Pending Determination

NMFS published notice of its Proposed Evaluation and Pending Determination (PEPD) on the plans for public review and comment on December 15, 2017 (81 FR 90783). The PEPD and an associated draft environmental assessment were available for public review and comment for 15 days.

During the public comment period, NMFS received one comment letter on the PEPD. The comments were technical in nature, and did not require substantive modifications to the PEPD or the environmental assessment. The comments and NMFS' detailed responses are available on the West Coast Region Web site. Based on its evaluation and recommended determination, and taking into account the public comments, NMFS issued its final determination on the Tribal Plan.

Authority

Under section 4 of the ESA, the Secretary is required to adopt such regulations as he deems necessary and advisable for the conservation of the species listed as threatened.

The ESA Tribal 4(d) Rule (65 FR 42481; July 10, 2000) states that the ESA section 9 take prohibitions will not apply to Tribal Plans that will not appreciably reduce the likelihood of survival and recovery for the listed species.

Dated: April 17, 2017.
Donna Wieting,
Director, Office of Protected Resources, National Marine Fisheries Service.

[FR Doc. 2017-07966 Filed 4-19-17; 8:45 am]

BILLING CODE 3510-22-P